SMALL BUSINESS ADMINISTRATION

[Declaration of Disaster #3512]

State of West Virginia; Amendment #3

In accordance with the notice received from the Department of Homeland Security—Federal Emergency Management Agency, effective July 10, 2003, the above numbered declaration is hereby amended to include Nicholas County in the State of West Virginia as a disaster area due to damages caused by severe storms, flooding, and landslides that occurred June 11, 2003 and continuing.

In addition, applications for economic injury loans from small businesses located in the following contiguous counties may be filed until the specified date at the previously designated location: Braxton, Greenbrier, and Webster Counties in the State of West Virginia.

All other counties contiguous to the above named primary county have been previously declared.

All other information remains the same, i.e., the deadline for filing applications for physical damage is August 20, 2003, and for economic injury the deadline is March 22, 2004.

(Catalog of Federal Domestic Assistance Program Nos. 59002 and 59008)
Dated: July 14, 2003.
Herbert L. Mitchell,
Associate Administrator for Disaster Assistance.

[FR Doc. 03-18329 Filed 7-17-03; 8:45 am]

BILLING CODE 8025-01-P